DEPARTMENT OF HEALTH AND HUMAN SERVICES

Office of the Secretary

[Document Identifier: OS-04040-0005; 60-day notice]

Agency Information Collection Activities: Proposed Collection; Comment Request

Agency: Office of the Secretary, HHS.

In compliance with the requirement of section 3506(c)(2)(A) of the Paperwork Reduction Act of 1995, the Grants.gov Program Management Office, one of the 26 E-Government initiatives, managed by the Department of Health and Human Services is publishing the following summary of proposed collection for public comment. Interested individuals are invited to send comments regarding any aspect of this collection of information or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: Extension.

Title of Information Collection: SF-424 Individual.

Form/OMB No.: 4040-0005.

Use: The discretionary SF-424 was established as the government-wide standard data set and form for Discretionary grant applications on July 31, 2003 [Federal Register Notice 68 FR 44974]. The SF-424 consolidates grant application related data and forms currently used by Federal grant-making agencies and organizations for their discretionary grant programs and replaces numerous agency-specific forms. The effect has been to reduce the administrative burden to the Federal grants community, which includes applicants/grantees and Federal staff involved in grants-related activities. Use of the standard data elements was implemented through the electronic grants application process of Grants.gov, which was deployed in October 2003 and is part of the implementation of the Federal Financial Assistance Management Improvement Act of 1999 (Pub. L. 106-107). Federal agencies and applicants under discretionary grant programs now use the standard SF-424 discretionary data set and definitions for paper and electronic applications. Federal agencies will not be required to use the SF-424 (I) nor be required to collect all of the information included in the proposed data set. The agency will identify the data that must be provided by applicants through instructions that will accompany the application package.

Frequency: Recordkeeping, Reporting, on occasion.

Affected Public: Individuals or Households.

Annual Number of Respondents: 5,827.

Total Annual Responses: 6,949.

Average Burden per Response: 24.72 min.

Total Annual Hours: 2,863.

To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be received within 60 days, and directed to the OS Paperwork Clearance Officer at the following address: Department of Health and Human Services, Office of the Secretary, Assistant Secretary for Resources and Technology, Office of Resources Management, Attention: Sherrette Funn-Coleman (4040-0005), Room 537-H, 200 Independence Avenue, SW., Washington, DC 20201.

Dated: January 19, 2007.
Charles Havekost,
Office of the Secretary, Paperwork Reduction Act Reports Clearance Officer.

[FR Doc. E7-1187 Filed 1-25-07; 8:45 am]

BILLING CODE 4150-17-P